ENVIRONMENTAL PROTECTION AGENCY

[EPA-HQ-OPP-2004-0369; FRL-8083-2]

Chloroneb; Termination of Certain Uses and Label Amendments

AGENCY: Environmental Protection Agency (EPA).

ACTION: Notice.

SUMMARY: This notice announces EPA's cancellation order for the termination of certain uses and label amendments, voluntarily requested by the registrant and accepted by the Agency, of products containing the pesticide chloroneb, pursuant to section 6(f)(1) of the Federal Insecticide, Fungicide, and Rodenticide Act (FIFRA), as amended. This cancellation order follows an April 19, 2006 Federal Register Notice of Receipt of Request from the chloroneb registrant to voluntarily terminate certain uses of its chloroneb products and label amendments. The request would terminate chloroneb's use on residential lawns and turf, as well as on lawns and turf of parks and schools. In the April 19, 2006 Notice, EPA indicated that it would issue an order to implement the termination of certain uses, unless the Agency received substantive comments within the 30 day comment period that would merit its further review of these requests, or unless the registrant withdrew their request within this period. The Agency did not receive any comments on the Notice. Further, the registrant did not withdraw their request. Accordingly, EPA hereby issues in this notice a cancellation order granting the request to terminate the use on residential lawns and turf, as well as on lawns and turf of parks and schools. Any distribution, sale, or use of the chloroneb products subject to this cancellation order is permitted only in accordance with the terms of this order, including any existing stocks provisions.

DATES: The cancellations are effective August 16, 2006.

FOR FURTHER INFORMATION CONTACT: Wilhelmena Livingston, Special Review and Reregistration Division (7508P), Office of Pesticide Programs, Environmental Protection Agency, 1200 Pennsylvania Ave., NW., Washington, DC 20460-0001; telephone number: (703) 308-8025; fax number: (703) 308-8005; e-mail address: livingston.wilhelmena@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2004-0369 Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the Federal Register listings at http://www.epa.gov/fedrgstr/.

II. What Action is the Agency Taking?

This notice grants the request by the registrant identified in this notice (Table 3) to terminate certain uses and amend labels for chloroneb registrations. Chloroneb is a fungicide currently registered for use on a variety of food crops but is primarily used for pre-plant cottonseed treatment as well as on commercial turf and ornamentals. Other markets for chloroneb seed treatment uses include: sugar beets, soybeans, cotton, and beans. In a letter dated January 9, 2006, Kincaid Inc. requested that EPA terminate certain uses of pesticide product registrations identified in this notice (Table 1). Kincaid Inc. requested voluntary termination of chloroneb's use on residential lawns and turf, as well as on lawns and turf at parks and schools. With regard to turf uses, Kincaid requested that the following use be terminated: Turf: except for golf course tees, greens, collars, aprons, and spot treatment on fairways, as well as athletic fields used only by professional athletes. In addition to the use terminations, Kincaid requested the following statement be added to the label for its manufacturing-use registration (registration number 73782-1) identified in this notice (Table 2): “This product may not be formulated into end use products for use on turf, except for use on golf course tees, greens, collars, aprons, and spot treatment on fairways, as well as athletic fields used for professional athletes.”

This notice announces the termination of certain uses of chloroneb product registrations and label amendments. The affected products and the registrant making the request are identified in the following tables of this unit.

Table 1.—Chloroneb Product Registrations with Termination of Certain Uses
EPA Registration No. | Product Name
73782-1 | Chloroneb Fungicide Technical
73782-2 | Demosan 65W
73782-3 | Terraneb SP Turf Fungicide
73782-4 | K.E. Chloroneb Systemic Flowable Fungicide

Table 2.—Chloroneb Product Registration for Label Amendments
EPA Registration No. | Product Name
73782-1 | Chloroneb Fungicide Technical

Table 3.—Registrant of Chloroneb Products With Termination of Certain Uses and Label Amendment
EPA Company No. | Company Name and Address
73782 | Kincaid Inc. P.O. Box 490 Athens, TN 37371

III. Summary of Public Comments Received and Agency Response to Comments

During the public comment period provided, EPA received no comments in response to the April 19, 2006 Federal Register notice announcing the Agency's receipt of the request for voluntary termination of certain uses of chloroneb and label amendments.

IV. Cancellation Order

Pursuant to FIFRA section 6(f), EPA hereby approves the requested cancellation order to terminate certain uses of chloroneb registrations identified in Table 1 of Unit II. Accordingly, the Agency also orders that the label amendments for the product registration identified in Table 2 of Unit II is hereby amended. Any distribution, sale, or use of existing stocks of the products identified in Table 1 of Unit II in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this Notice includes the following existing stocks provisions:

Registrant may sell and distribute existing stocks for one year from the date of the use termination request. The product may be sold, distributed, and used by people other than the registrant until existing stocks have been exhausted, provided that such sale, distribution, and use comply with the EPA-approved label and labeling of the product.

List of Subjects

Environmental protection, Pesticides and pests.

Dated: August 9, 2006.
Debra Edwards,
Director, Special Review and Reregistration Division, Office of Pesticide Programs.

[FR Doc. E6-13343 Filed 8-15-06; 8:45 am]

BILLING CODE 6560-50-S